DEPARTMENT OF AGRICULTURE

Submission for OMB Review; Comment Request

July 11, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Specimen Submission.

OMB Control Number: 0579-0090.

Summary of Collection: Under the authority of Title 21, U.S.C., the Secretary of Agriculture is permitted to prevent, control and eliminate domestic diseases such as tuberculosis, as well as to take actions to prevent and to manage exotic diseases such as hog cholera, African swine fever, and other foreign diseases. Disease prevention cannot be accomplished without the existence of an effective disease surveillance program, which includes disease testing, by the National Veterinary Services Laboratories. Information is collected on each animal specimen being submitted for analysis by the Animal and Plant Health Inspection Service (APHIS) using form VS 10-4, “Specimen Submission”.

Need and Use of the Information: Using APHIS form VS 10-4, State or Federal veterinarians, accredited veterinarians, or other State and Federal representatives will document the collection and submission of specimens for laboratory analysis. The form identifies the individual animal from which the specimen is taken as well as the animal's herd or flock; the type of specimen submitted, and the purpose of submitting the specimen. Without the information contained on this form, personnel at the National Veterinary Services Laboratories would have no way of identifying or processing the specimens being sent to them for analysis.

Description of Respondents: State, Local or Tribal Government; Farms.

Number of Respondents: 14,000.

Frequency of Responses: Reporting: On occasion.

Total Burden Hours: 7,000.

Ruth Brown,
Departmental Information Collection Clearance Officer.

[FR Doc. E6-11203 Filed 7-14-06; 8:45 am]

BILLING CODE 3410-34-P